DEPARTMENT OF COMMERCE

National Oceanic and Atmospheric Administration

Gulf of Mexico Fishery Management Council; Public Meetings

AGENCY: National Marine Fisheries Service (NMFS), National Oceanic and Atmospheric Administration (NOAA), Commerce.

ACTION: Notice; public hearing (webinar).

SUMMARY: The Gulf of Mexico Fishery Management Council (Council) will hold a public hearing to solicit public comments on Electronic Reporting for For-Hire Vessels via webinar.

DATES: The webinar will be held Thursday, December 17, 2015, beginning at 6 p.m. and will conclude no later than 9 p.m. Written public comments must be received on or before 5 p.m. E.S.T., Friday, December 18, 2015.

ADDRESSES: The public documents can be obtained by contacting the Gulf of Mexico Fishery Management Council, 2203 N. Lois Avenue, Suite 1100, Tampa, FL 33607; telephone: (813) 348-1630 or on their Web site at www.gulfcouncil.org.

Meeting addresses: The public hearing will be held via webinar. You may register at https://attendee.gotowebinar.com/register/6492235001962146818.

Public comments: Comments may be submitted online through the Gulf Council's public portal by visiting www.gulfcouncil.org and clicking on “CONTACT US”.

FOR FURTHER INFORMATION CONTACT: Dr. John Froeschke, Fishery Biologist/Statistician, Gulf of Mexico Fishery Management Council; telephone: (813) 348-1630; fax: (813) 348-1711; email: john.froeschke@gulfcouncil.org

SUPPLEMENTARY INFORMATION: The Council is considering several changes that would require electronic reporting for the Reef Fish and Coastal Migratory Pelagic (CMP) species for the for-hire operators. The agenda for the public hearing/webinar is as follows: Council staff will brief the public on the proposed Amendment then Council staff will open the meeting for questions and public comments.

Register to participate at https://attendee.gotowebinar.com/register/6492235001962146818.

Special Accommodations

Requests for auxiliary aids should be directed to Kathy Pereira (see ADDRESSES), at least 5 working days prior to the meeting date.

Authority: 16 U.S.C. 1801 et seq.

Dated: November 25, 2015.
Tracey L. Thompson,
Acting Deputy Director, Office of Sustainable Fisheries, National Marine Fisheries Service.

[FR Doc. 2015-30418 Filed 11-30-15; 8:45 am]

BILLING CODE 3510-22-P